DEPARTMENT OF COMMERCE

International Trade Administration

Environmental Technologies Trade Advisory Committee Public Meeting

AGENCY: International Trade Administration, DOC.

ACTION: Notice of Federal Advisory Committee meeting.

SUMMARY: This notice sets forth the schedule and proposed agenda of a meeting of the Environmental Technologies Trade Advisory Committee (ETTAC).

DATES: The meeting is scheduled for Tuesday, July 26, 2016, at 9:30 a.m. Eastern Standard Time (EST).

ADDRESSES: The meeting will be held in the Global Room at the National Association of Manufacturers (NAM), 733 10th Street NW., Suite 700, Washington, DC 20001.

FOR FURTHER INFORMATION CONTACT: Ms. Maureen Hinman, Office of Energy & Environmental Industries (OEEI), International Trade Administration, Room 4053, 1401 Constitution Avenue NW., Washington, DC 20230 (Phone: 202-482-0627; Fax: 202-482-5665; email: maureen.hinman@trade.gov.) This meeting is physically accessible to people with disabilities. Requests for sign language interpretation or other auxiliary aids should be directed to OEEI at (202) 482-5225 no less than one week prior to the meeting.

SUPPLEMENTARY INFORMATION: The meeting will take place from 9:30 a.m. to 2:00 p.m. EDT. The general meeting is open to the public and time will be permitted for public comment from 1:30-2:00 p.m. EDT. Those interested in attending must provide notification by Wednesday, July 13, 2016 at 5:00 p.m. EDT, via the contact information provided above. Written comments concerning ETTAC affairs are welcome any time before or after the meeting. Minutes will be available within 30 days of this meeting.

Topics to be considered: The agenda for this meeting will include a joint ETTAC-ETWG discussion wherein executives of the U.S. interagency Trade Promotion Coordinating Committee's (TPCC) Environmental Trade Working Group (ETWG) will receive and provide feedback on the ETTAC's recommendations to the Secretary of Commerce and the ETWG.

Background: The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994.

Dated: June 30, 2016.
Man Cho,
Deputy Office Director, Office of Energy and Environmental Industries.

[FR Doc. 2016-16087 Filed 7-6-16; 8:45 am]

BILLING CODE 3510-DR-P